DEPARTMENT OF VETERANS AFFAIRS

Web Automated Reference Material System

AGENCY: Department of Veterans Affairs (VA).

ACTION: Notice.

SUMMARY: VA announces that the Veteran Readiness and Employent Service Manual (M28R) was renamed M28C and was made available in an electronic public access through the KnowVA Knowledge Base.

DATES: These changes are effective October 1, 2020.

FOR FURTHER INFORMATION CONTACT: Kristine Kuehnle, Policy and Procedures Supervisor, Veteran Readiness and Employment Service, Veterans Benefits Administration, Department of Veterans Affairs, 810 Vermont Avenue NW, Washington, DC 20420, 202-461-9749. (This is not a toll-free telephone number.)

SUPPLEMENTARY INFORMATION: The Web Automated Reference Manual System (WARMS), available at http://www.benefits.va.gov/WARMS/, provides public access to VA benefits policies and procedures issued in the form of manuals, directives and handbooks. Historically, M28R was electronically available to the public only in WARMS. WARMS displays M28R content in an individual portable document format, making it difficult to search for information or navigate from one document to another.

Effective October 1, 2020, M28R was renamed M28C and was made available in an electronic public access through the KnowVA Knowledge Base, available at http://www.knowva.ebenefits.va.gov/. The M28C content found on KnowVA is a mirror image of the M28C content available to VA employees through internal servers and is updated simultaneously when VA updates M28C content on the internal servers. Moreover, KnowVA is more user friendly than WARMS, with an intuitive search engine, keyword search capability and hyperlinked cross references to other M28C content, making it easier for users to locate information.

On October 1, 2020, VA made the M28C content available to the public. However, the M28R content will remain in WARMS for historical purposes until the M28R content is moved to the internal servers and the KnowVA Knowledge Base.

Signing Authority

The Secretary of Veterans Affairs, or designee, approved this document and authorized the undersigned to sign and submit the document to the Office of the Federal Register for publication electronically as an official document of the Department of Veterans Affairs. Brooks D. Tucker, Acting Chief of Staff, Department of Veterans Affairs, approved this document on October 27, 2020 for publication.

Luvenia Potts,
Regulation Development Coordinator, Office of Regulation Policy & Management, Office of the Secretary, Department of Veterans Affairs.

[FR Doc. 2020-24095 Filed 10-29-20; 8:45 am]

BILLING CODE 8320-01-P